DEPARTMENT OF COMMERCE

Proposed Revised Information Collection; Comment Request; Limited Access Death Master File Subscriber Certification Form

AGENCY: National Technical Information Service, Commerce.

ACTION: Notice.

SUMMARY: The Department of Commerce, as part of its continuing effort to reduce paperwork and respondent burden, invites the general public and other Federal agencies to take this opportunity to comment on proposed and/or continuing information collections, as required by the Paperwork Reduction Act of 1995. The purpose of this notice is to allow for 60 days of public comment.

DATES: Written comments must be submitted on or before November 28, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to John W. Hounsell, Business and Industry Specialist, Office of Product and Program Management, National Technical Information Service, Department of Commerce, 5301 Shawnee Road, Alexandria, VA 22312, email: jhounsell@ntis.gov or telephone: 703-605-6184.

SUPPLEMENTARY INFORMATION:

I. Abstract

This notice informs the public that the National Technical Information Service (NTIS) is requesting approval of a revised information collection described in Section II for use in connection with the final rule for the “Certification Program for Access to the Death Master File.” The final rule was published on June 1, 2016 (81 FR 34882), with the rule to become effective on November 28, 2016. The revised information collection described in Section II, if approved, will become effective on the effective date of the final rule.

II. Method of Collection

Title of Information Collection: “Limited Access Death Master File Subscriber Certification Form” (Certification Form).

Description of the need for the information and the proposed use: NTIS issued a final rule establishing a program through which persons may become eligible to obtain access to Death Master File (DMF) information about an individual within three years of that individual's death. The final rule was promulgated under Section 203 of the Bipartisan Budget Act of 2013, Public Law 113-67 (Act). The Act prohibits the Secretary of Commerce (Secretary) from disclosing DMF information during the three-year period following an individual's death (Limited Access DMF), unless the person requesting the information has been certified to access the Limited Access DMF pursuant to certain criteria in a program that the Secretary establishes. The Secretary delegated the authority to carry out Section 203 to the Director of NTIS.

Initially, on March 26, 2014, NTIS promulgated an interim final rule, establishing a temporary certification program (79 FR 16668) for persons who seek access to the Limited Access DMF. Subsequently, on December 30, 2014, NTIS issued a notice of proposed rulemaking (79 FR 78314). NTIS adjudicated the comments received, and, on June 1, 2016, published a final rule (81 FR 34822).

NTIS created the Certification Form used with the interim final rule for Persons and Certified Persons to provide information to NTIS describing the basis upon which they are seeking certification. In the notice of proposed rulemaking, NTIS discussed proposed revisions to the Certification Form (79 FR 78314 at 78320-21). The final rule requires that Persons and Certified Persons provide additional information to improve NTIS's ability to determine whether a Person or Certified Person meets the requirements of the Act (81 FR 34882).

III. Data

OMB Control Number: 0692-0013.

Form Number(s): NTIS FM161.

Type of Review: Revised information collection.

Affected Public: Members of the public seeking certification or renewal of certification for access to the Limited Access Death Master File under the final rule for the “Certification Program for Access to the Death Master File.”

Estimated Number of Respondents: NTIS expects to receive approximately 560 applications and renewals for certification every year.

Estimated Time per Response: 2.5 hours.

Estimated Total Annual Burden Hours: 1,400 (560 applications × 2.5 hours = 1,400 hours).

Estimated Total Annual Cost to Public: NTIS expects to receive up to 560 applications annually at a fee of $1,575 per application, for a total cost of $882,000. This total annual cost reflects the cost to the Federal Government, which consists of the expenses associated with NTIS personnel reviewing and processing the revised Certification Form. In addition, NTIS expects that preparation of the application will require a senior administrative staff person 2.5 hours at a rate of $100/hour, for a total cost to the public of $140,000 (1,400 total burden hours × $100/hour = $140,000). NTIS estimates the total annual cost to the public to be $1,022,000 ($882,000 in fees + $140,000 in staff time = $1,022,000).

IV. Request for Comments

Comments are invited on: (a) Whether the proposed collection of information is necessary for the proper performance of the functions of the agency, including whether the information shall have practical utility; (b) the accuracy of the agency's estimate of the burden (including hours and cost of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2016-23208 Filed 9-26-16; 8:45 am]

BILLING CODE 3510-13-P